DEPARTMENT OF COMMERCE

International Trade Administration

[A-570-967]

Aluminum Extrusions From the People's Republic of China: Correction of the Final Results of Antidumping Duty Administrative Review and Rescission, in Part, 2010/12

AGENCY: Enforcement and Compliance, formerly Import Administration, International Trade Administration, Department of Commerce.

DATES: Effective January 2, 2014.

FOR FURTHER INFORMATION CONTACT: Paul Stolz or Demitrios Kalogeropoulos, AD/CVD Operations, Office III, Enforcement and Compliance, U.S. Department of Commerce, 14th Street and Constitution Avenue NW., Washington, DC 20230; telephone: (202) 482-4474 or (202) 482-2623, respectively.

Correction

On January 2, 2014, the Department of Commerce (“the Department”) published the Final Results of the first administrative review of the antidumping duty order on aluminum extrusions from the People's Republic of China.¹ The published Federal Register notice contained a ministerial error in that it included an exporter's name (i.e., “Zhongshan Gold Mountain Aluminum Factory Ltd.”²) that was misspelled. The correct spelling of this exporter's name is Zhongshan Gold Mountain Aluminium Factory Ltd. Pursuant to section 751(h) of the Tariff Act of 1930, as amended (“the Act”), the Department shall correct any ministerial errors within a reasonable time after the determinations are issued under this section. A ministerial error is defined as an error “in addition, subtraction, or other arithmetic function, clerical errors resulting from inaccurate copying, duplication, or the like, and any other type of unintentional error. . . .” This notice serves to correct the incorrect exporter company name listed in the Final Results.

¹ See Aluminum Extrusions From the People's Republic of China: Final Results of Antidumping Duty Administrative Review and Rescission, in Part, 2010/12, 79 FR 96 (January 2, 2014) (“Final Results”).

² Id., 79 FR 100.

This correction is published in accordance with sections 751(h) and 777(i) of the Act.

Dated: January 31, 2014.
Christian Marsh,
Deputy Assistant Secretary for Antidumping and Countervailing Duty Operations.

[FR Doc. 2014-02836 Filed 2-7-14; 8:45 am]

BILLING CODE 3510-DS-P